DEPARTMENT OF HEALTH AND HUMAN SERVICES

[Document Identifier: OS-4040-0019]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before March 19, 2020.

ADDRESSES: Submit your comments to OIRA_submission@omb.eop.gov or via facsimile to (202) 395-5806.

FOR FURTHER INFORMATION CONTACT: Ed Calimag, ed.calimag@hhs.gov or (202) 690-7569. When submitting comments or requesting information, please include the document identifier 4040-0019-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: Project Abstract Summary.

Type of Collection: Revision.

OMB No.: 4040-0019.

Abstract: Project Abstract Summary form provides the Federal grant-making agencies an alternative to the Standard Form 424 data set and form. Project Abstract Summary programs are not required to collect all the data that is required on the SF-424 core data set and form. Grants.gov seeks revision without renewal and designation as a Common Form due to updates to the IC. The IC was modified to remove data elements. The IC was renewed with an expiration date of 02/28/2022 and does not require an extension.

Estimated Annualized Burden Table
Forms | Number of respondents | Number of responses per respondent | Average burden hours per response | Total burden hours
Project Abstract Summary | 3,467 | 1 | 1 | 3,467
Total | 3,467 |  |  | 3,467

Sherrette A. Funn,
Paperwork Reduction Act Reports Clearance Officer, Office of the Secretary.

[FR Doc. 2020-03128 Filed 2-14-20; 8:45 am]

BILLING CODE 4151-AE-P